INTER-AMERICAN FOUNDATION

Sunshine Act Meetings

TIME AND DATE: November 19, 2018, 1:30 p.m.—5:10 p.m.

PLACE: Offices of Baker/McKenzie LLP, 815 Connecticut Avenue NW, Washington, DC 20006.

STATUS: Meeting of the Board of Directors and Advisory Council, open to the public, portion closed to the public.

MATTERS TO BE CONSIDERED:

Approval of Past Meeting Minutes

President's Report

Management Report

Advisory Council

Executive Session

Adjournment

PORTIONS CLOSED TO THE PUBLIC:

Executive session closed to the public as provided for by 22 CFR 1004.4(b) & (f)

CONTACT PERSON FOR MORE INFORMATION: Paul Zimmerman, General Counsel, (202) 683-7118.

Paul Zimmerman,
General Counsel.

[FR Doc. 2018-24837 Filed 11-8-18; 4:15 pm]

BILLING CODE 7025-01-P